DEPARTMENT OF COMMERCE

International Trade Administration

[A-580-836]

Certain Cut-to-Length Carbon-Quality Steel Plate Products From the Republic of Korea: Final Results of Antidumping Duty Administrative Review; 2018-2019

AGENCY: Enforcement and Compliance, International Trade Administration, Department of Commerce.

SUMMARY: On December 18, 2019, the Department of Commerce (Commerce) published the preliminary results of the administrative review of the antidumping duty order on certain cut-to-length carbon-quality steel plate products (CTL plate) from the Republic of Korea (Korea). Based on our analysis of the comments received, we continue to find that subject merchandise has been sold at less than normal value.

DATES: Applicable May 8, 2020.

FOR FURTHER INFORMATION CONTACT: Allison Hollander or Michael A. Romani, AD/CVD Operations, Office I, Enforcement and Compliance, International Trade Administration, U.S. Department of Commerce, 1401 Constitution Avenue NW, Washington, DC 20230; telephone: (202) 482-2805 or (202) 482-0198, respectively.

SUPPLEMENTARY INFORMATION:

Background

On December 18, 2019, Commerce published the Preliminary Results of this administrative review.¹ The period of review (POR) is February 1, 2018 through January 31, 2019. We invited interested parties to comment on the Preliminary Results and received case and rebuttal briefs from interested parties.²

¹ See Certain Cut-to-Length Carbon-Quality Steel Plate Products from the Republic of Korea: Preliminary Results of Antidumping Duty Administrative Review; 2018-2019, 84 FR 69360 (December 18, 2019) (Preliminary Results), and accompanying Preliminary Decision Memorandum.

² See Dongkuk Steel Mill Co., Ltd.'s (Dongkuk's) Case Brief, “Certain Cut-to-Length Carbon-Quality Steel Plate Products from the Republic of Korea: Case Brief,” dated January 17, 2020; Hyundai Steel Company's (Hyundai Steel's) Case Brief, “Certain Cut-to-Length Carbon-Quality Steel Plate from Korea: Case Brief,” dated January 17, 2020; and Nucor Corporation's (the petitioner's) Case Brief, “Certain Carbon and Alloy Steel Cut-to-Length Plate from the Republic of Korea: Case Brief,” dated January 17, 2020; see also Petitioner's Rebuttal Brief “Certain Carbon and Alloy Steel Cut-to-Length Plate from the Republic of Korea: Rebuttal Brief,” dated January 27, 2020; and Dongkuk's Rebuttal Brief, “Certain Cut-to-Length Carbon-Quality Steel Plate from the Republic of Korea: Rebuttal Brief,” dated January 27, 2020.

Commerce exercised its discretion to toll all deadlines affected by the partial federal government closure from December 22, 2018, through the resumption of operations on January 29, 2019, including the Preliminary Results.³ On April 8, 2020, we extended the deadline for these results until April 30, 2020.⁴ On April 24, 2020, Commerce tolled all deadlines in administrative reviews by 50 days, thereby extending the deadline for these results until June 19, 2020.⁵

³ See Memorandum, “Deadlines Affected by the Partial Shutdown of the Federal Government,” dated January 28, 2019. All deadlines in this segment of the proceeding were affected by the partial federal government closure and were extended by 40 days. If the new deadline falls on a non-business day, in accordance with Commerce's practice, the deadline will become the next business day. See Notice of Clarification: Application of “Next Business Day” Rule for Administrative Determination Deadlines Pursuant to the Tariff Act of 1930, As Amended, 70 FR 24533 (May 10, 2005).

⁴ See Memorandum, “Certain Cut-to-Length Carbon-Quality Steel Plate Products from the Republic of Korea: Extension of Deadline for Final Results of the Antidumping Duty Administrative Review,” dated April 8, 2020.

⁵ See Memorandum, “Tolling of Deadlines for Antidumping and Countervailing Duty Administrative Reviews in Response to Operational Adjustments Due to COVID-19,” dated April 24, 2020.

Commerce conducted this review in accordance with section 751 of the Tariff Act of 1930, as amended (the Act).

Scope of the Order

The products covered by the order are certain CTL plate from Korea. For a full description of the scope of the order, see the Issues and Decision Memorandum.⁶

⁶ See Memorandum, “Issues and Decision Memorandum for the Final Results of Antidumping Duty Administrative Review of Certain Cut-to-Length Carbon-Quality Steel Plate Products from the Republic of Korea; 2018-2019,” dated concurrently with, and hereby adopted by, this notice (Issues and Decision Memorandum).

Analysis of Comments Received

All issues raised in the case and rebuttal briefs by parties in this review are addressed in the Issues and Decision Memorandum. A list of the issues raised is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and electronic versions of the Issues and Decision Memorandum are identical in content.

Changes Since the Preliminary Results

Based on our analysis of comments received, we revised the preliminary margin calculation for Dongkuk and Hyundai Steel. These revisions resulted in changes to the margins for Dongkuk, Hyundai Steel, and the respondents not selected for individual examination for the final results of this review.⁷

⁷ See Issues and Decision Memorandum for further details on the changes we made for these final results; see also Memoranda, “Certain Cut-to-Length Carbon-Quality Steel Plate Products from the Republic of Korea: Final Analysis Memorandum for Dongkuk Steel Mill Co., Ltd.,” and “Certain Cut-to-Length Carbon-Quality Steel Plate Products from the Republic of Korea: Final Analysis Memorandum for Hyundai Steel Company,” both dated concurrently with this notice; see also Memorandum, “Certain Cut-to-Length Carbon-Quality Steel Plate Products from the Republic of Korea: Calculation of the Margin for Respondents Not Selected for Individual Examination,” dated concurrently with this notice.

Final Results of the Administrative Review

We determine that the following weighted-average dumping margins exist for the respondents for the period February 1, 2018 through January 31, 2019:

Producer/exporter | Weighted- average dumping margin (percent)
Dongkuk Steel Mill Co., Ltd | 2.26
Hyundai Steel Company | 2.49
BDP International | 2.43
Sung Jin Steel Co., Ltd | 2.43

Disclosure

We intend to disclose the calculations performed to parties in this proceeding within five days after public announcement of the final results in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review.

For Dongkuk and Hyundai Steel, we calculated importer-specific assessment rates on the basis of the ratio of the total amount of antidumping duties calculated for each importer's examined sales and the total entered value of the sales in accordance with 19 CFR 351.212(b)(1).⁸ For entries of subject merchandise during the POR produced by Dongkuk or Hyundai Steel for which it did not know its merchandise was destined for the United States, we will instruct CBP to liquidate unreviewed entries at the all-others rate if there is no rate for the intermediate company(ies) involved in the transaction. For the companies which were not selected for individual examination, BDP International and Sung Jin Steel Co., Ltd., we will instruct CBP to apply the rates listed above to all entries of subject merchandise produced and/or exported by these firms. We intend to issue liquidation instructions to CBP 15 days after publication of these final results of review.

⁸ In these final results, Commerce applied the assessment rate calculation method adopted in Antidumping Proceedings: Calculation of the Weighted-Average Dumping Margin and Assessment Rate in Certain Antidumping Duty Proceedings; Final Modification, 77 FR 8101 (February 14, 2012).

Cash Deposit Requirements

The following deposit requirements will be effective upon publication of this notice for all shipments of CTL plate from Korea entered, or withdrawn from warehouse, for consumption on or after the date of publication, as provided by section 751(a)(2)(C) of the Act: (1) The cash deposit rate for the companies listed above will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the less-than-fair-value (LTFV) investigation but the producer has been covered in a prior complete segment of this proceeding, then the cash deposit rate will be the rate established for the most recent period for the producer of the merchandise; and (4) the cash deposit rate for all other producers or exporters will continue to be 0.98 percent,⁹ the all-others rate determined in the LTFV investigation, adjusted for the export-subsidy rate in the companion countervailing duty investigation. These cash deposit requirements, when imposed, shall remain in effect until further notice.

⁹ See, e.g., Certain Cut-to-Length Carbon-Quality Steel Plate Products from the Republic of Korea: Final Results of Antidumping Duty Administrative Review; 2016-2017, 83 FR 32629, 32630 (July 13, 2018).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

Notification to Interested Parties

This notice is published in accordance with sections 751(a)(1) and 777(i)(1) of the Act, and 19 CFR 351.221(b)(5). Note that Commerce has temporarily modified certain of its requirements for serving documents containing business proprietary information, until May 19, 2020, unless extended.¹⁰

¹⁰ See Temporary Rule Modifying AD/CVD Service Requirements Due to COVID-19, 85 FR 17006 (March 26, 2020).

Dated: May 1, 2020.
Jeffrey I. Kessler,
Assistant Secretary for Enforcement and Compliance.

Appendix

List of Topics Discussed in the Issues and Decision Memorandum

I. Summary

II. Background

III. Scope of the Order

IV. Changes to the Preliminary Results

V. Rates for Respondents Not Selected for Individual Examination

VI. Discussion of the Issue

Comment 1: Hyundai Steel's Window Period

Comment 2: Hyundai Steel's Constructed Export Price (CEP) Offset

Comment 3: Hyundai Steel's Other Discount

Comment 4: Dongkuk's Cost Smoothing

Comment 5: Dongkuk's Currency Conversion

VII. Recommendation

[FR Doc. 2020-09889 Filed 5-7-20; 8:45 am]

BILLING CODE 3510-DS-P